DEPARTMENT OF TRANSPORTATION

Federal Railroad Administration

Environmental Impact Statement for the All Aboard Florida Miami—Orlando Passenger Rail Project

AGENCY: Federal Railroad Administration (FRA), Department of Transportation.

ACTION: Notice of intent to prepare an Environmental Impact Statement (EIS).

SUMMARY: FRA is issuing this notice to advise the public that FRA will prepare an Environmental Impact Statement (EIS) to evaluate the potential environmental and related impacts of constructing and operating an intercity passenger rail service proposed by the private company, All Aboard Florida—Operations LLC (AAF), between Miami and Orlando, Florida, with intermediate stops in Fort Lauderdale and West Palm Beach, Florida (Proposed Action). FRA will evaluate alternatives for construction and operation of the Proposed Action, which would include infrastructure improvements to existing rail corridor right-of-way between Miami and Cocoa, and the development of a new rail corridor between Cocoa and Orlando. FRA will also evaluate a No Action (No Build) Alternative. FRA is issuing this notice to solicit public and agency input into the development of the scope of the EIS and to advise the public that outreach activities conducted by FRA, AAF and its representatives will be considered in the preparation of the EIS. To ensure all significant issues are identified and considered, the public is invited to comment on the scope of the EIS, including the purpose and need, alternatives to be considered, impacts to be evaluated, and methodologies to be used in the evaluation.

DATES: FRA invites the public, governmental agencies, and all other interested parties to comment on the scope of the EIS. All such comments should be provided to FRA, in writing, within thirty (30) days of the publication of this notice, at the address listed below. Comments may also be provided orally or in writing at the scoping meetings for the Project. Scoping meeting dates, times and locations, in addition to related Project information can be found online at www.allaboardflorida.com or www.fra.dot.gov.

ADDRESSES: Written comments on the scope of the EIS may be mailed or emailed within thirty (30) days of the publication of this notice to Catherine Dobbs, Transportation Industry Analyst, Office of Railroad Policy and Development, Federal Railroad Administration, 1200 New Jersey Avenue SE., Washington, DC 20590, or catherine.dobbs@dot.gov.

FOR FURTHER INFORMATION CONTACT: Ali Soule, Public Affairs Manager, All Aboard Florida—Operations LLC, 2855 LeJeune Road, 4th Floor, Coral Gables, FL 33134, eis@allaboardflorida.com, or Catherine Dobbs, Transportation Industry Analyst, Office of Railroad Policy and Development, Federal Railroad Administration, 1200 New Jersey Avenue SE., Washington, DC 20590, catherine.dobbs@dot.gov. Information and documents regarding the EIS process will also be made available through the FRA Web site at www.fra.dot.gov and the AAF Web site at www.allaboardflorida.com.

SUPPLEMENTARY INFORMATION: FRA is preparing an EIS for a 235-mile intercity passenger railroad system proposed by AAF that will connect Orlando and Miami, Florida, with intermediate stops in Fort Lauderdale and West Palm Beach, Florida (Project). The proposed Project is composed of two connected corridors: (1) A north-south corridor of approximately 195 miles from Miami to Cocoa within an existing rail right-of-way, and (2) an east-west corridor of approximately 40 miles from Cocoa to the Orlando International Airport (MCO). The EIS will evaluate the potential environmental and related impacts of constructing and operating the Project within these corridors in Florida.

Environmental Review Process

The EIS will be developed in accordance with the Council on Environmental Quality (CEQ) regulations (40 CFR part 1500 et. seq.) implementing the National Environmental Policy Act of 1969 (42 U.S.C. 4321 et seq.) (NEPA) and FRA's Procedures for Considering Environmental Impacts (64 FR 28545, May 26, 1999). In addition to NEPA, the EIS will address other applicable statutes, regulations and executive orders, including the 1980 Clean Air Act Amendments, Section 404 of the Clean Water Act, the National Historic Preservation Act, Section 4(f) of the Department of Transportation Act, the Endangered Species Act and Executive Order 12898 on Environmental Justice. The EIS will consider alternatives that could include the use of, or access over, an interstate right-of-way and thus may involve the Federal Highway Administration. The Project's new corridor from Cocoa to MCO may involve alteration and fill of waters of the United States and thus the EIS process will involve the US Army Corps of Engineers, which is expected to serve as a cooperating agency. The Project is proposed to terminate at MCO, the Orlando International Airport, and thus may require review pursuant to the applicable requirements of the Federal Aviation Administration. The purpose of the EIS will be to provide the FRA, reviewing and cooperating agencies, and the public with information to assess alternatives that will meet the Project's purpose and need; to evaluate the potential environmental impacts; and to identify potential avoidance/mitigation measures, associated with the proposed Project alternatives.

Project Background

Florida has historically experienced major population, employment, and tourism growth, which is expected to continue in the coming decades. Florida's travelers are subject to chronic congestion and delays due to inadequate roadway capacity. The limited capacity results in higher road maintenance costs, increased fuel consumption, greater emissions and increased traffic incidents stemming from the high traffic volume. Significant roadway expansion along the I-95 corridor would be expected to cause a large number of displacements and other substantial environmental impacts while failing to provide an alternative to automobile travel.

As an alternative to additional highway development, this Project would help meet the existing need and demand for safe, convenient, and reliable transportation through the development of a privately-owned, operated and maintained intercity passenger rail service between four stations in Orlando, West Palm Beach, Fort Lauderdale, and Miami. Development of passenger rail will also support economic development by generating new revenue and creating jobs and fulfill several public policy objectives concerning the environment.

AAF is a subsidiary of Florida East Coast Industries, Inc. (FECI), which is a transportation, infrastructure and commercial real estate company based in Coral Gables, Florida. Florida East Coast Railway, L.L.C. (FECR), an affiliate of FECI, owns the right-of-way and existing railroad infrastructure within the corridor between Miami and Jacksonville, over which FECR operates a freight rail service (FEC Corridor). AAF has an exclusive, perpetual easement granted by FECR whereby AAF may develop and operate the proposed passenger service within the FEC Corridor. AAF will operate the proposed passenger rail service within the FEC Corridor in coordination with FECR's continued freight service. AAF is working to secure access to use the right-of-way of State Road 528 between Cocoa and MCO through a combination of passenger rail leases and easements.

FRA issued a finding of no significant impact on January 31, 2013 for passenger rail service and rail and station improvements proposed by AAF between Miami, Fort Lauderdale and West Palm Beach. These improvements would return this 66 mile portion of the FEC Corridor to its historic dual-track system, providing fast, dependable and efficient passenger rail service between West Palm Beach and Miami. The proposed Miami to Orlando passenger rail project would expand this initial service to MCO.

The proposed Project would use stations developed for the Miami to West Palm Beach project that will be located in the central business districts of Miami, Fort Lauderdale, and West Palm Beach, supporting development in these urban centers. The proposed station at MCO is expected to be developed by the Greater Orlando Airport Authority as part of a $1 billion South Terminal Expansion that will include a 3,500-space parking garage and the development of a multi-modal depot.

As proposed, 195 miles of the Project would operate within an active freight rail corridor that has existed for more than 100 years. Proposed alternatives for the remaining 40 miles connecting Cocoa and Orlando generally parallel the existing State Road 528 right-of-way.

Scoping and Public Involvement

FRA encourages broad participation in the EIS process during scoping and review of the resulting environmental documents. Comments are invited from all interested agencies and the public to ensure the full range of issues related to the Proposed Action are addressed, reasonable alternatives are considered, and significant issues are identified. In particular, FRA is interested in identifying areas of environmental concern where there might be a potential for significant impacts. Public agencies with jurisdiction are requested to advise FRA and AAF of the applicable permit and environmental review requirements of each agency, and the scope and content of the environmental information that is germane to the agency's statutory responsibilities in connection with the proposed Project. Public agencies are requested to advise FRA if they anticipate taking a major action in connection with the proposed Project and if they wish to cooperate in the preparation of the EIS.

Public scoping opportunities and meetings will be scheduled as described above and are an important component of the scoping process for Federal environmental review. FRA is seeking participation and input of interested Federal, State, and local agencies, Native American groups, and other concerned private organizations and individuals on the scope of the EIS. The Project may affect historic properties and may be subject to the requirements of Section 106 of the National Historic Preservation Act of 1966 (NHPA) (16 U.S.C. 470(f)). In accordance with regulations issued by the Advisory Council on Historic Preservation (36 CFR part 800), FRA intends to coordinate compliance with Section 106 of the NHPA with the preparation of the EIS, beginning with the identification of consulting parties through the scoping process, in a manner consistent with the standards set out in 36 CFR 800.8.

Issued in Washington, DC, on April 5, 2013.
Corey Hill,
Director, Passenger and Freight Programs.

[FR Doc. 2013-08745 Filed 4-12-13; 8:45 am]

BILLING CODE 4910-06-P